FEDERAL MARITIME COMMISSION

46 CFR Part 515

[Docket No. 13-05]

RIN 3072-AC44

Ocean Transportation Intermediary Licensing and Financial Responsibility Requirements, and General Duties

AGENCY: Federal Maritime Commission.

ACTION: Correcting amendments.

SUMMARY: The Federal Maritime Commission corrects rules governing the licensing, financial responsibility requirements and duties of Ocean Transportation Intermediaries that were recently amended to add a section inadvertently omitted and to correct problems which occurred in production of the Code of Federal Regulations.

DATES: This correction is effective January 27, 2016.

FOR FURTHER INFORMATION CONTACT: Karen V. Gregory, Secretary, Federal Maritime Commission, 800 North Capitol Street NW., Washington, DC 20573-0001, Tel.: (202) 523-5725, Email: secretary@fmc.gov.

SUPPLEMENTARY INFORMATION: On December 9, 2015, a Final Rule took effect significantly amending the Federal Maritime Commission's regulations governing Ocean Transportation Intermediaries (OTIs). The Final Rule was published in the Federal Register on November 5, 2015, 80 FR 68721. A section of the regulations in place prior to the Final Rule, 46 CFR 515.17, (“Application after revocation or denial”), was inadvertently deleted when the Final Rule was published. This correction re-inserts the section content at 46 CFR 515.18, and moves another section's content to section 515.17 so that the regulations are in the proper order.

This correction also fixes three minor typographical errors that were created in the course of production of the Code of Federal Regulations in 46 CFR 515.42 and Appendix D to part 515.

List of Subjects in 46 CFR Part 515

Freight, Freight forwarders, Maritime carriers, Reporting and recordkeeping requirements.

For the reasons stated in the SUPPLEMENTARY INFORMATION, the Federal Maritime Commission corrects 46 CFR part 515 as follows:

PART 515—LICENSING, FINANCIAL RESPONSIBILITY REQUIREMENTS, AND GENERAL DUTIES FOR OCEAN TRANSPORTATION INTERMEDIARIES

1. The authority citation for part 515 continues to read as follows:

Authority: 5 U.S.C. 553; 31 U.S.C. 9701; 46 U.S.C. 305, 40102, 40104, 40501-40503, 40901-40904, 41101-41109, 41301-41302, 41305-41307; Pub. L. 105-383, 112 Stat. 3411; 21 U.S.C. 862.

Subpart B—Eligibility and Procedure for Licensing and Registration

§ 515.18 [Redesignated as § 515.17]

2. Redesignate § 515.18 as § 515.17.

3. Add new § 515.18 to read as follows:

§ 515.18 Application after revocation or denial.

Whenever a license has been revoked or an application has been denied because the Commission has found the licensee or applicant to be not qualified to render ocean transportation intermediary services, any further application within 3 years of the Commission's notice of revocation or denial, made by such former licensee or applicant or by another applicant employing the same qualifying individual or controlled by persons whose conduct the Commission based its determination for revocation or denial, shall be reviewed directly by the Commission.

Subpart E—Freight Forwarding Fees and Compensation

4. In § 515.42:

a. Revise the section heading.

b. In paragraph (c), in the last sentence, remove the numeral “2” and add in its place “_”.

The revision reads as follows:

§ 515.42 Forwarder and carrier compensation; fees.

* * * * *

Appendix D to Part 515 [Amended]

5. In Appendix D remove “the _, day of _” and add in its place “the _, day of_,_” every place it occurs.

Karen V. Gregory,
Secretary.

[FR Doc. 2016-01578 Filed 1-26-16; 8:45 am]

BILLING CODE 6731-AA-P